DEPARTMENT OF EDUCATION

Applications for New Awards; Statewide Longitudinal Data Systems

AGENCY: Institute of Education Sciences, Department of Education.

ACTION: Notice.

SUMMARY: The Institute of Education Sciences (IES) invites State educational agencies (SEAs) to apply for fiscal year (FY) 2019 grants to assist them in using data in Statewide Longitudinal Data Systems (SLDS) to inform their efforts to improve education in critical areas, Catalog of Federal Domestic Assistance (CFDA) number 84.372A. This notice relates to the approved information collection under OMB control number 1894-0006.

DATES:

Applications Available: June 26, 2019.

Deadline for Notice of Intent to Apply: July 19, 2019.

Deadline for Transmittal of Applications: September 17, 2019.

Pre-Application Webinar Information: We intend to hold webinars designed to provide technical assistance to interested applicants. Detailed information regarding these meetings will be provided on the IES website at http://ies.ed.gov/funding.

ADDRESSES: For the addresses for obtaining and submitting an application, please refer to our Common Instructions for Applicants to Department of Education Discretionary Grant Programs, published in the Federal Register on February 13, 2019 (84 FY 3768) and available at https://www.govinfo.gov/content/pkg/FR-2019-02-13/pdf/2019-02206.pdf.

FOR FURTHER INFORMATION CONTACT: Nancy Sharkey, U.S. Department of Education, 400 Maryland Avenue SW, Room 4162, Potomac Center Plaza, Washington, DC 20202. Telephone: (202) 245-7689. Email: nancy.sharkey@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The SLDS program awards grants to SEAs to design, develop, and implement statewide longitudinal data systems to efficiently and accurately manage, analyze, disaggregate, and use individual student data. The Department's long-term goal in operating the program is to help all States create comprehensive P-20W (early learning through workforce) systems that foster the generation and use of accurate and timely data, support analysis and informed decision-making at all levels of the education system, increase the efficiency with which data may be analyzed to support the continuous improvement of education services and outcomes, facilitate research to improve student academic achievement and close achievement gaps, support education accountability systems, and simplify the processes used by SEAs to make education data transparent through Federal and public reporting.

Under previous competitions, IES awarded SLDS grants to 47 States, the District of Columbia, Puerto Rico, the Virgin Islands, and American Samoa. These funds supported SLDS grantees in the design, development, and implementation of statewide longitudinal kindergarten through grade 12 (K-12) data systems, or to expand their K-12 systems to include early childhood data and/or postsecondary and workforce data. Grants awarded also supported the development and implementation of systems that link individual student data across time and across databases, including the matching of teachers to students; promoting interoperability across institutions, agencies, and States; and protecting student and individual privacy consistent with applicable privacy protection laws.

Priorities: Because States have been engaged in the process of developing these longitudinal data systems for a number of years, two of the priorities of this competition focus on using data that have already been linked or managed in State data systems. However, recognizing that infrastructure conceived more than a decade ago may be increasingly obsolete, States may also apply for infrastructure grants in this round.

Applicants may apply for funds to carry out projects to address one of the following priorities for development and use of an SLDS:

(1) Infrastructure;

(2) Education Choice; or

(3) Equity.

Under any of these priorities, States should consider how their proposals would enhance their ability to use their SLDS to address the needs of at-risk students, including children and youth who are or have been homeless or in the child welfare or juvenile justice systems. All applicants may also apply for funds to assist the Department in testing a proposed school-level poverty measure that is based on student addresses instead of participation in free and reduced-price meals. States participating in this activity would always be in control of the geocoded student address directory that they create, and no individual student data will be shared with the Department.

SEAs for each of the 50 States, the District of Columbia, the Commonwealth of Puerto Rico, and each of the outlying areas are eligible to apply for funding under this competition. Grants will not be made available to support ongoing maintenance of current data systems, but they may be used to improve existing systems to make more effective use of the data contained in these statewide systems, or to create a system where none previously existed, or a linkage that did not already exist.

Exemption from Rulemaking: Under section 191 of the Education Sciences Reform Act, 20 U.S.C. 9581 IES is not subject to section 43(d) of the General Education Provisions Act, 20 U.S.C 1232(d), and is therefore not required to offer interested parties the opportunity to comment on priorities, selection criteria, definitions, and requirements.

Program Authority: 20 U.S.C. 9607.

Applicable Regulations: (a) The Education Department General Administrative Regulations (EDGAR) in 34 CFR parts 77, 82, 84, 97, 98, and 99. (b) 34 CFR part 75, except for the provisions in 34 CFR 75.100, 75.101(b), 75.102, 75.103, 75.105, 75.109(a), 75.200, 75.201, 75.209, 75.210, 75.211, 75.217(a)-(c), 75.219, 75.220, 75.221, 75.222, and 75.230. (c) The OMB Guidelines to Agencies on Governmentwide Debarment and Suspension (Nonprocurement) in 2 CFR part 180, as adopted and amended as regulations of the Department in 2 CFR part 3485.

II. Award Information

Type of Award: Cooperative agreements.

Estimated Available Funds: $26,132,000 to support the first year of grant funding.

Estimated Range of Awards: $3,250,000 to $3,500,000 for the entire project period of 48 months.

Maximum Award: We will not make an award exceeding $3,250,000 for the entire project period of 48 months to address one of the priorities. States that agree to participate in the School-Level Poverty project may request an additional $250,000 for costs associated with the school-level poverty measure development and test work for a project period of no more than 48 months.

Note: The Director of IES may change the maximum award through a notice published in the Federal Register.

Estimated Number of Awards: We estimate making approximately 30 awards. The number of awards made under this competition will depend upon the quality of the applications received and the level of funding requested.

Note: The Department is not bound by any estimates in this notice.

Project Period: Up to 48 months.

III. Eligibility Information

1. Eligible Applicants: Eligible applicants are limited to SEAs. An SEA is the agency primarily responsible for the State supervision of elementary schools and secondary schools. See 20 U.S.C. 9601 (which incorporates by reference the definition of SEA set out in section 9101 of the Elementary and Secondary Education Act of 1965, as amended (ESEA), 20 U.S.C. 7801). The SEAs of the 50 States, the District of Columbia, the Commonwealth of Puerto Rico, the United States Virgin Islands, American Samoa, Guam, and the Commonwealth of the Northern Mariana Islands are eligible.

2. a. Cost Sharing or Matching: This competition does not require cost sharing or matching.

b. Supplement-Not-Supplant: The Educational Technical Assistance Act of 2002 requires that funds made available under this grant program be used to supplement, and not supplant, other State or local funds used for developing or using State data systems.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019, and available at www.govinfo.gov/content/pkg/FR-2019-02-13/pdf/2019-02206.pdf, which contain requirements and information on how to submit an application.

Additional information regarding program requirements for this competition will be contained in the Request for Applications (RFA), which will be available on June 19, 2019, on the IES website at: https://ies.ed.gov/funding/.

2. Submission of Proprietary Information: Given the types of projects that may be proposed in applications for the SLDS grant program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is not subject to Executive Order 12372 and the regulations in 34 CFR part 79.

4. Funding Restrictions: We reference regulations outlining funding restrictions in the Applicable Regulations section of this notice.

5. Notice of Intent to Apply: We ask potential applicants to submit a letter of intent, indicating the priority under which the State intends to apply for funding. We use the information in the letters of intent to identify the expertise needed for the scientific review panels and to secure a sufficient number of reviewers. For this reason, letters of intent are optional but strongly encouraged. We request that letters of intent be submitted using the link at: https://iesreview.ed.gov/. Applicants that do not submit a notice of intent to apply may still apply for funding; applicants that do submit a notice of intent to apply are not bound to apply or bound by the information provided.

V. Application Review Information

1. Selection Criteria: For all of its grant competitions, IES uses selection criteria based on a peer-review process that has been approved by the National Board for Education Sciences. The Peer Review Procedures for Grant Applications can be found on the IES website at: https://ies.ed.gov/director/sro/peer_review/application_review.asp. For this competition, peer reviewers will be asked to evaluate the substantial need for the project; the quality and feasibility of its measurable outcomes, activities, and timelines; the effectiveness of its management and governance plan; the quality of its data security and privacy protections; the qualifications and experience of the personnel; and the resources of the applicant to support the proposed activities. These criteria are described in greater detail in the RFA.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: To evaluate the overall success of this program, the Department has established three performance measures that assess progress toward our strategic goal of ensuring that data are available to inform education decisions by supporting States' development and implementation of statewide longitudinal data systems. The Department measures: (1) The number of States that link K-12 data with early childhood data; (2) the number of States that link K-12 data with postsecondary data; and (3) the number of States that link K-12 and postsecondary data with workforce data. In addition, grantees will be expected to report in their annual and final performance reports on their progress in achieving the project objectives proposed in their grant applications and on the status of their development and implementation of a statewide longitudinal data system.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2019-13038 Filed 6-18-19; 8:45 am]

BILLING CODE 4000-01-P